ENVIRONMENTAL PROTECTION AGENCY

[FRL-6575-6]

National Environmental Justice Advisory Council; Notification of Meeting and Public Comment Period(s); Open Meetings

Pursuant to the Federal Advisory Committee Act (FACA), Public Law 92-463, we now give notice that the National Environmental Justice Advisory Council (NEJAC), along with the various subcommittees will meet on the dates and times described below. All times noted are Eastern Standard Time. All meetings are open to the public. Due to limited space, seating at the NEJAC meeting will be on a first-come basis. Documents that are the subject of NEJAC reviews are normally available from the originating EPA office and are not available from the NEJAC. The NEJAC and subcommittee meetings will take place at the Omni Hotel at CNN Center, 100 Center Street, Atlanta, GA 30335. The meeting dates are as follows: May 23 , 2000 through May 26, 2000. All times shown are Eastern Time. This is the second in a series of focused policy issue meetings for the NEJAC. To help prepare for this specific focused policy issue meeting the following background information is provided:

Request

The Charter for the National Environmental Justice Advisory Council (NEJAC) states that NEJAC shall provide independent advice to the Administrator on areas that may include, among other things, “the direction, criteria, scope, and adequacy of the EPA's scientific research and demonstration projects” relating to environment justice. In order to provide such independent advice, the Agency, through the Office of Environmental Justice (OEJ), requests that the NEJAC convene a focused and issue-oriented public meeting in Atlanta, Georgia. The meeting shall be used to receive comments on, discuss, and analyze federal efforts to make community-based strategies in the area of disease prevention and health improvement more effective. The Agency, furthermore, requests that the NEJAC produce a comprehensive report on the differing views, interests, concerns, and perspectives expressed by the stakeholder participants on the issue, and provide advice and recommendations for the Agency's review and consideration.

Issue

The meeting will focus on federal efforts to secure disease prevention and health improvement in communities where health disparities exist that may result from, or be exacerbated by, disproportionate effects of environmental pollutants and certain socioeconomic and cultural factors.

(1) What strategies and areas of research* should be pursued to achieve more effective, integrated community-based health assessment, intervention, and prevention efforts?

*Research in this context encompasses a broad range of studies that may include basic science, applied research, and data collection. These may be carried out by: federal, state, tribal or local governments; universities; communities; industry; and/or individuals.

(2) How should these strategies be developed, implemented and evaluated so as to insure substantial participation, integration and collaboration among federal agencies, in partnership with: impacted communities; public health, medical and environmental professionals; academic institutions; state, tribal and local governments; and the private sector?

(3) How can consideration of socioeconomic status and cultural factors: (a) Contribute to health disparities and cumulative and disproportionate environmental effects; and (b) be incorporated into community health assessments?

Background

Dr. David Satcher, the Surgeon General, recently stated that a major national health goal for the next ten years should be to reduce the health disparities that exist in this country and which are especially apparent in minority, low-income, and/or indigenous communities. Equally true is that many of these same communities bear a disproportionate exposure to environmental pollutants that may underlie and/or contribute to these disparities. When such exposures are combined with other social and physical living conditions present in these environments, the potential for health disparities is magnified even further.

A growing number of researchers and community representatives have argued that one should not treat minority, low-income, and/or indigenous communities with an “all things being equal” approach. Given varying degrees of vulnerability among communities, the impacts of specific environmental pollutants on a given community's health and that community's ability to cope with such impacts often may be affected dramatically by a multiplicity of factors.

Two additional issues that arise in environmental justice communities are how community-based research is carried out and the nature and availability of health care. Environmental justice communities are defined as communities with significant minority, low-income and/or indigenous populations adversely and disproportionately impacted by environmental pollution. First, most research targeted at identifying environmentally related health problems in communities does not take into account the need to build partnerships within the community. In addition, the research is focused on finding problems not solutions. As a result, the community usually lacks a full understanding of research findings and does not have the resources or knowledge to address the problem. Second, communities usually lack access to health care and even when available, practitioners often lack training in environmental medicine and therefore may be unable to provide proper diagnosis and treatment.

Discussion

Improvements in health and living conditions are a priority for most residents of minority, low-income and/or indigenous communities. These communities also desire the ability to meaningfully participate in any decision-making process that affect their lives and to take actions to protect and improve their health. Community-based assessment, intervention and prevention efforts, i.e., efforts conducted by, with, or for communities, intended to address these concerns are finally beginning to take the above into consideration.

Integrated community-based assessment, intervention and prevention strategies should lead to the following:

(1) More effective integrated community-based intervention/prevention strategies that address contributors to negative health in a community;

(2) Multi-disciplinary research that elucidates specific vulnerabilities that result from the interaction of socioeconomic factors and physical environments. These vulnerabilities may be associated with the health disparities found among minority, low-income and/or indigenous populations; and

(3) Direction on how community-based assessments can contribute to better understanding of causal relationships.

The NEJAC is being requested to provide advice and recommendations in the following specific areas:

(1) To assess the extent to which an integrated community-based public health model that includes assessment, intervention and prevention can contribute to disease prevention and health improvement in environmental justice communities;

(2) To identify the most critical gaps in community-based assessment and research and to recommend strategies that federal agencies should employ to address them;

(3) To identify ways in which a community-based model enhances ongoing research, intervention/prevention, and regulatory activities of EPA and other federal agencies; and

(4) To recommend strategies and mechanisms that should be developed and implemented to insure a more fully integrated, collaborative effort by the federal agencies, working with impacted communities and other vital partners, to reduce these health disparities.

Greater coordination, collaboration, and cooperation by multiple federal agencies is necessary. This effort should now include a number of health agencies that have been concerned with health disparities but have not recognized environmental exposures as an etiologic factor. Such agencies can play critical roles in providing solutions to environmental justice issues. EPA and other federal agencies involved to date in the upcoming NEJAC meeting include the National Institute for Environmental Health Sciences (NIEHS), the Agency for Toxic Substances and Disease Registry (ATSDR) and the National Center for Environmental Health (NCEH) which will facilitate engaging the other key public health agencies.

Meeting

Registration for the NEJAC meeting will begin on Tuesday, May 23, 2000 at 4:00 p.m. A public comment period for overall environmental justice issues is scheduled for Tuesday, May 23, 2000, from 6:30 p.m. to 9:30 p.m. On Wednesday, May 24, 2000, a second public comment period dedicated to the focused policy issue is scheduled from 6:30 p.m. to 9:30 p.m. The full NEJAC will convene Wednesday, May 24, 2000, from 8:00 a.m. to 5:00 p.m. Business will include a series of panels with expert testimony on the focused policy issue, a review of ongoing NEJAC activities and a discussion of new business items. All subcommittees of the NEJAC, will meet on Thursday, May 25, 2000, from 9:00 a.m. to 5:30 p.m. The full NEJAC will reconvene Friday, May 26, 2000, from 8:00 a.m. to 5:00 p.m. for Subcommittee reports and closing discussions.

Any member of the public wishing additional information on the subcommittee meetings should contact the specific Designated Federal Official at the telephone number listed below.

Subcommittee Federal official | Telephone No.
Enforcement: Ms. Shirley Pate | 202/564-2607
Health and Research:
Mr. Lawrence Martin | 202/564-6497
Mr. Chen Wen | 202/260-4109
International: Ms. Wendy Graham | 202/564-6602
Indigenous Peoples: Mr. Danny Gogal | 202/564-2576
Waste/Facility Siting: Mr. Kent Benjamin | 202/260-2822
Air and Water:
Mr. Wil Wilson | 202/564-1954
Ms. Alice Walker | 202/260-1919

Members of the public who wish to participate in one of the public comment periods should pre-register by May 1, 2000. Individuals or groups making oral presentations during the public comment period will be limited to a total time of five minutes. Only one representative from a community, organization, or group will be allowed to speak. Any number of written comments can be submitted for the record. The suggested format for individuals making public comment should be as follows:

Request To Make Public Comment Speaker's Template

Name of Speaker:

Name of Organization/Community:

Address/Phone/Fax/Email:

Description of Concern:

Recommendations/Desired Outcome:

If you wish to submit written comments of any length (at least 50 copies), they should also be received by May 1, 2000. Comments received after that date will be provided to the Council as logistics allow. All information should be sent to the address or fax number cited below.

Registration

Pre-registration for all attendees is recommended. To receive a registration form, call the number listed below or visit the web site. Correspondence concerning registration should be sent to Tama Clare of Tetra Tech Environmental Management, Inc. at: 1881 Campus Commons, Suite 200, Reston, VA 20191, phone: 703/390-0641 or fax: 703/391-5876. Hearing-impaired individuals or non-English speaking attendees wishing to arrange for a sign language or foreign language interpreter, may make appropriate arrangements using these numbers also. In addition, NEJAC offers a toll-free Registration Hotline at 1-888/335-4299. For on-line registration, you may visit the Internet site: http://www.ttclients.com/nejac.

Dated: April 4, 2000.
Marva E. King,
Acting Designated Federal Official, National Environmental Justice Advisory Council.

[FR Doc. 00-8836 Filed 4-7-00; 8:45 am]

BILLING CODE 6560-50-P